ENVIRONMENTAL PROTECTION AGENCY

40 CFR Part 257

Criteria for Classification of Solid Waste Disposal Facilities and Practices

CFR Correction

In Title 40 of the Code of Federal Regulations, parts 190 to 259, revised as of July 1, 2003, on page 376, § 257.5 is corrected by reinstating the definition of Uppermost aquifer to read as follows:

§ 257.5 Disposal standards for owners/operators of non-municipal non-hazardous waste disposal units that receive Conditionally Exempt Small Quantity Generator (CESQG) waste.

* * * * *

(b) * * *

* * * * *

Uppermost aquifer means the geologic formation nearest the natural ground surface that is an aquifer, as well as, lower aquifers that are hydraulically interconnected with this aquifer within the facility's property boundary.

* * * * *

[FR Doc. 03-55527 Filed 10-23-03; 8:45 am]

BILLING CODE 1505-01-D